DEPARTMENT OF LABOR

Office of Workers' Compensation Programs

Agency Information Collection Activities; Comment Request; Uniform Billing Form

ACTION: Notice.

AGENCY: Office of Workers' Compensation Programs.

SUMMARY: The Department of Labor (DOL) is soliciting comments concerning a proposed extension for the authority to conduct the information collection request (ICR) titled, “Uniform Billing Form”. This comment request is part of continuing Departmental efforts to reduce paperwork and respondent burden in accordance with the Paperwork Reduction Act of 1995 (PRA).

DATES: Consideration will be given to all written comments received by January 18, 2022.

ADDRESSES: A copy of this ICR with applicable supporting documentation; including a description of the likely respondents, proposed frequency of response, and estimated total burden may be obtained for free by contacting Anjanette Suggs by telephone at 202-354-9660 or by email at suggs.anjanette@dol.gov.

Submit written comments about this ICR by mail or courier to the U.S. Department of Labor, Office of Workers' Compensation Programs, Room S3323, 200 Constitution Avenue NW, Washington, DC 20210; or by email at suggs.anjanette@dol.gov. Please note that comments submitted after the comment period will not be considered.

FOR FURTHER INFORMATION CONTACT: Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Office of Workers' Compensation Programs (OWCP) is the agency responsible for administration of the Federal Employees' Compensation Act, 5 U.S.C. 8101 et seq., the Black Lung Benefits Act, 30 U.S.C. 901 et seq., and the Energy Employees Occupational Illness Compensation Program Act of 2000, 42 U.S.C. 7384 et seq. All three of these statutes require that OWCP pay for medical treatment of beneficiaries; this medical treatment can include inpatient/outpatient hospital services, as well as services provided by nursing homes, skilled nursing facilities and home health aides in the home. In order to determine whether billed amounts are appropriate, OWCP needs to identify the patient, the specific services that were rendered and their relationship to the work-related injury or illness. The regulations implementing these statutes require the use of Form OWCP-04 or UB-04 for the submission of medical bills from institutional providers (20 CFR 10.801, 30.701, 725.405, 725.406, 725.701 and 725.704). The Uniform Billing Form, known as the paper UB-04, has been approved by the American Hospital Association, the Centers for Medicare and Medicaid Services and the Civilian Health and Medical Program of Uniformed Services by various other government health care providers, and the private sector, to request payment to institutional providers of medical services. The paper UB-04 form has been designed by the National Uniform Billing Committee and is neither a government-printed form nor distributed by OWCP. However, this collection includes the paper UB-04 form as a collection instrument, with detailed instructions prepared by OWCP to ensure that it obtains only the information needed to consider requests for payment from institutional providers using this billing form. This information collection is currently approved for use through March 31, 2022.

Interested parties are encouraged to provide comments to the contact shown in the ADDRESSES section. Written comments will receive consideration, and be summarized and included in the request for OMB approval of the final ICR. In order to help ensure appropriate consideration, comments should mention OMB No. 1240-0019.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Type of Review: Revision of currently approved collection.

Title of Collection: Uniform Billing Form.

Form: OWCP-04, Uniform Billing Form.

OMB Control Number: 1240-0019.

Affected Public: Private Sector: Business or other for-profit institutions; not for-profit.

Estimated Number of Respondents: 6,077.

Frequency: On occasion.

Total Estimated Annual Responses: 190,970.

Estimated Average Time per Response: 1-7 minutes.

Estimated Total Annual Burden Hours: 29,466.

Total Federal Cost: $1,981,286.

Total Estimated Annual Other Cost Burden: 0.

(Authority: 44 U.S.C. 3506(c)(2)(A))

Anjanette Suggs,
Agency Clearance Officer.

[FR Doc. 2021-25163 Filed 11-17-21; 8:45 am]

BILLING CODE 4510-CH-P